DEPARTMENT OF TRANSPORTATION

Office of the Secretary

[OST Docket No. DOT-OST-2011-0022]

Notice of Submission of Proposed Information Collection to OMB Agency Request for Reinstatement of a Previously Approved Collection: Online Complaint Form for Service-Related Issues in Air Transportation

AGENCY: Office of the Secretary, Department of Transportation.

ACTION: Notice and request for comments; reinstatement of an OMB control number.

SUMMARY: In accordance with the Paperwork Reduction Act of 1995 this notice announces the Department of Transportation's intention to reinstate an OMB control number for an online complaint form by which a consumer can electronically submit a service-related complaint against an airline and other sellers of air transportation.

DATES: Comments on this notice must be received by January 28, 2022.

ADDRESSES: To ensure that you do not duplicate your docket submissions, please submit them by only one of the following means:

• Federal eRulemaking Portal: Go to http://www.regulations.gov and follow the online instructions for submitting comments;

• Mail: Docket Management Facility, U.S. Department of Transportation, 1200 New Jersey Ave. SE, West Building Ground Floor, Room W-12/140, Washington, DC 20590-0001; or

• Hand Delivery: West Building Ground Floor, Room W-12/140, 1200 New Jersey Ave. SE, between 9 a.m. and 5 p.m., Monday through Friday, except Federal holidays. The telephone number is 202-366-9329.

FOR FURTHER INFORMATION CONTACT: Daeleen Chesley, Office of the Secretary, Office of Aviation Consumer Protection (C-70), U.S. Department of Transportation, 1200 New Jersey Ave. SE, Washington, DC 20590, 202 366-6792 (voice) or at Daeleen.Chesley@dot.gov.

SUPPLEMENTARY INFORMATION:

OMB Control Number: 2105-0568.

Title: Reinstatement of Office of Aviation Consumer Protection Online Complaint Form.

Abstract: The Department of Transportation's (Department) Office of Aviation Consumer Protection (OACP, formerly the Office of Aviation Enforcement and Proceedings) has broad authority under 49 U.S.C., subtitle VII, to investigate and enforce consumer protection and civil rights laws and regulations related to air transportation. OACP monitors compliance with and investigates violations of the Department of Transportation's aviation economic, consumer protection, and civil rights requirements.

Among other things, the office is responsible for receiving and investigating service-related consumer complaints filed against airlines and other sellers of air transportation. Once received, the complaints are reviewed by the office to determine the extent to which these entities comply with federal aviation consumer protection and civil rights laws and what, if any, action should be taken.

This request is to enable consumers to continue to submit comments, including complaints, to the Department using an online form, whether via their personal computer or on a mobile/electronic device. If the online comment form is not available, the Department may receive fewer complaints/comments from consumers. The lack of consumer-driven information could inhibit the office's ability to effectively investigate both individual complaints against airlines and other sellers of air transportation. It would also impact OACP's ability to become aware of patterns and practices that may develop in violation of our rules. The information collection continues to further the objectives of 49 U.S.C. 41712, 40101, 40127, 41702, and 41705 to protect consumers from unfair or deceptive practices, to protect the civil rights of air travelers, and to ensure safe and adequate service in air transportation.

Filing a complaint using a web-based form is voluntary and minimizes the burden on respondents when compared with other methods of submitting complaints. In recent years, consumers have submitted the vast majority of complaints online versus contacting the Department using regular mail or telephone. Approximately ninety percent of the submissions received by OACP during calendar years (CYs) 2017 through 2019 were filed using the web-based form as shown in the table below.¹

¹ In 2020, the Department received an unusually high number (100,613) of online submissions to our office, primarily complaints, largely due to flight cancellations and refund issues that resulted from the Covid-19 pandemic. Using the average number of submissions from the three previous CYs more accurately reflects the annual number of submissions received by our office historically.

Calendar year | Total number of complaints filed | Total number of complaints filed online | Percentage of complaints filed online
2017 | 18,155 | 16,067 | 89
2018 | 15,546 | 13,964 | 90
2019 | 15,342 | 14,107 | 92
Average Total per Year (above) | 16,348 | 14,713 | 90

The type of information requested on the form includes complainant's name, address, phone number (including area code), email address, and name of the airline or company about which she/he is complaining, as well as the flight date and flight itinerary (where applicable) of a complainant's trip. A consumer may also use the form to give a description of a specific air-travel related problem or to ask for air-travel related information from the OACP. The Department has limited its informational request to that necessary to meet its program and administrative monitoring and enforcement activities.

Respondents: Consumers that Choose to File an Online Complaint/Comment with the Office of Aviation Consumer Protection.

Estimated Number of Respondents: 14,713 (based on averaging data from CYs 2017-19).

Estimated Total Burden on Respondents: 3,678.25 hours (220,695 minutes). The estimate was calculated by multiplying the average number of cases filed using the online form in CYs17-19 (14,713) by the time needed to fill out the online form (15 minutes).

The information collection is available for inspection in regulations.gov, as noted in the Addresses section of this document.

Comments are Invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents.

All responses to this notice will be summarized and included in the request for OMB approval. All comments will also become a matter of public record on the docket.

Authority: The Paperwork Reduction Act of 1995; 44 U.S.C. chapter 35, as amended; and 49 CFR 1.48.

Issued in Washington, DC, on November 23, 2021.
Kimberly Graber,
Deputy Assistant General Counsel, Office of Aviation Consumer Protection.

[FR Doc. 2021-25891 Filed 11-26-21; 8:45 am]

BILLING CODE P